DEPARTMENT OF COMMERCE

Foreign-Trade Zones Board

[Docket 35-2011]

Proposed Foreign-Trade Zone—Eloy, AZ Comment Period on New Evidence

On May 23, 2011, an application was submitted to the Foreign-Trade Zones (FTZ) Board by the City of Eloy, Arizona, requesting authority to establish a general-purpose FTZ at sites in Pinal County, Arizona (76 FR 30907, 05/27/2011). Pursuant to the requirements of the FTZ Board's regulations (see 15 CFR 400.33(e)(2); formerly 15 CFR 400.27(d)(2)(v)(B)), the FTZ Board is now inviting public comment on new evidence submitted by the City of Eloy on July 31, 2012, on which there has not been an opportunity for public comment.

The comment period on the new evidence is open through November 13, 2012. Submissions shall be addressed to the Board's Executive Secretary at the following address: Office of the Executive Secretary, Foreign-Trade Zones Board, Room 21013, U.S. Department of Commerce, 1401 Constitution Avenue NW., Washington, DC 20230-0002. Rebuttal comments in response to material submitted during the foregoing period may be submitted during the subsequent 15-day period to November 26, 2012.

A copy of the City of Eloy's July 31, 2012, submission will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Christopher J. Kemp at Christopher.Kemp@trade.gov or (202) 482-0862.

Dated: October 5, 2012.
Andrew McGilvray,
Executive Secretary.

[FR Doc. 2012-25166 Filed 10-11-12; 8:45 am]

BILLING CODE 3510-DS-P